DEPARTMENT OF HOMELAND SECURITY

Coast Guard

[Docket No. USCG-2021-0345]

Port Access Route Study: The Pacific Coast From Washington to California

AGENCY: Coast Guard, DHS.

ACTION: Notice of availability of draft study and request for comments.

SUMMARY: The Coast Guard announces the availability of the draft Pacific Coast Port Access Route Study (PAC-PARS) and requests public comments on the draft. This study evaluates safe access routes for the movement of vessel traffic proceeding to or from ports or places along the western seaboard of the United States and aims to determine whether a shipping safety fairway (“fairway”) and/or routing measures should be established, adjusted or modified.

DATES: Comments must be submitted to the online docket via https://www.regulations.gov on or before October 25, 2022.

ADDRESSES: You may submit comments identified by docket number USCG-2021-0345 using the Federal Decision Making Portal at https://www.regulations.gov. See the “Public Participation and Request for Comments” portion of the SUPPLEMENTARY INFORMATION section for further instructions on submitting comments.

FOR FURTHER INFORMATION CONTACT: For information about this document call or email LCDR Sara Conrad, Coast Guard Pacific Area (PAC-54), U.S. Coast Guard; telephone (510) 437-3813, email Sara.E.Conrad@uscg.mil or Mr. Tyrone Conner, Eleventh Coast Guard District (dpw), U.S. Coast Guard; telephone (510) 437-2968, email Tyrone.L.Conner@uscg.mil or Mr. John Moriarty, Thirteenth Coast Guard District (dpw), U.S. Coast Guard; telephone (206) 220-7274, email John.F.Moriarty@uscg.mil.

SUPPLEMENTARY INFORMATION:

Public Participation and Comments

We encourage you to submit comments regarding the results of the draft Pacific Coast Port Access Route Study. We will consider all submissions and may adjust our final action based on your comments. If you submit a comment, please include the docket number for this notice, indicate the specific section of this document to which each comment applies, and provide a reason for each suggestion or recommendation.

Submitting comments. We encourage you to submit comments through the Federal Decision Making Portal at http://www.regulations.gov. To do so, go to https://www.regulations.gov, type USCG-2021-0345 in the search box and click “Search.” Next, look for this document in the Search Results column, and click on it. Then click on the Comment option. If your material cannot be submitted using http://www.regulations.gov, contact the person in the FOR FURTHER INFORMATION CONTACT section of this document for alternate instructions.

Viewing material in docket. To view documents mentioned in this notice as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

Personal information. We accept anonymous comments. Comments we post to https://www.regulations.gov will include any personal information you have provided. For more about privacy and submissions in response to this document, see DHS's eRulemaking System of Records notice (85 FR 14226, March 11, 2020).

Public Meeting

We plan to hold several public meetings to receive oral comments on this draft PAC-PARS. The dates, times, and locations will be announced on our project web page Pacific Coast Port Access Route Study (PAC-PARS) and via a separate document published in the Federal Register.

Background

The Ports and Waterways Safety Act, (PWSA)(46 U.S.C. 70003(c)(1)), authorizes the Commandant of the Coast Guard to designate necessary fairways and traffic separations schemes (TSSs) to provide safe access routes for vessels proceeding to and from United States ports. The designation of fairways and TSSs recognizes the paramount right of navigation over all other uses in the designated areas.

Before establishing or adjusting fairways, 46 U.S.C. 70003(c)(1) requires the Coast Guard to study potential traffic density and assess the need for safe access routes for vessels. During this process, the Coast Guard considers the views of the maritime community, environmental groups, and other stakeholders to reconcile the need for safe access routes with reasonable waterway uses. See 46 U.S.C. 70003(c)(3).

On July 29, 2021, the Coast Guard announced that the Coast Guard Pacific Area Command would conduct a Pacific Coast Port Access Route Study (PAC-PARS) (86 FR 40791). The study area encompasses all vessel traffic patterns approaching and departing major ports along the west coast to include all current Traffic Separation Schemes and vessel maneuvering along the Pacific Coast from Washington to California and all federal navigable waters out to the EEZ. The PAC-PARS is focused on vessel traffic and navigation mitigation techniques to improve and support safe navigation transits within the major Pacific Coast Ports and the United States EEZ.

The PAC-PARS aims to enhance navigational safety by examining existing shipping routes and waterway uses and, to the extent practicable, reconciling the paramount right of navigation within designated port access routes with other waterway uses such as the development of aquaculture farms, offshore renewable energy, commercial space ports/re-entry sites, marine sanctuaries, ports supporting Panamax vessels, potential LNG ports and additional commercial vessel traffic.

After analyzing current and historical vessel traffic, fishing vessel information, agency and stakeholder experience in vessel traffic management, navigation, ship handling, and effects of weather, we have determined that there is a need to establish voluntary fairways for coastwise and nearshore vessel traffic to promote safety of navigation in the study area. As part of the draft PAC-PARS report, which is available for public review in this docket, charts of the recommended fairways are included as Appendices I, II, and III. Examples of public notice and outreach documents are included in Appendices IV-XI. Two vessel traffic analyses, for coastal waters and port approaches, are included as Enclosures 1 and 2, respectively. Earlier Federal Register announcements associated with this effort are included as Enclosures 3 and 4. Finally, the three memorandums from each Coast Guard command involved in this study are provided in Enclosures 5, 6, and 7. The draft and appendices can also be found on our project web page.

We request your comments on any aspect of this study. Information received during this additional public comment period may result in changes to the study's recommendations prior to any future rulemakings or appropriate international agreements.

This notice is issued under authority of 46 U.S.C. 70003(c)(1).

Dated: August 22, 2022.
A.J. Tiongson,
Vice Admiral, U.S. Coast Guard, Commander, Pacific Area.

[FR Doc. 2022-18453 Filed 8-25-22; 8:45 am]

BILLING CODE 9110-04-P